DEPARTMENT OF LABOR

Bureau of International Labor Affairs; U.S. National Administrative Office; National Advisory Committee for the North American Agreement on Labor Cooperation; Notice of Open Meeting

AGENCY: Office of the Secretary, Labor.

ACTION: Notice of open meeting May 4, 2004.

SUMMARY: Pursuant to the Federal Advisory Committee Act (Pub. L. 92-463), the U.S. National Administrative Office (NAO) gives notice of a meeting of the National Advisory Committee for the North American Agreement on Labor Cooperation (NAALC).

The Committee was established by the Secretary of Labor to provide advice to the U.S. Department of Labor on matters pertaining to the implementation and further elaboration of the NAALC, the labor supplemental accord to the North American Free Trade Agreement (NAFTA). The Committee is authorized under Article 17 of the NAALC.

The Committee consists of independent representatives drawn from among labor organizations, business and industry, educational institutions, and the general public.

DATES: The Committee will meet on May 4, 2004 from 9 a.m. to 1 p.m.

ADDRESSES: U.S. Department of Labor, 200 Constitution Avenue, NW., Room C-4325, Washington, DC 20210. The meeting is open to the public on a first-come, first served basis.

FOR FURTHER INFORMATION CONTACT: Lewis Karesh, designated Federal Officer, U.S. NAO, Bureau of International Labor Affairs, U.S. Department of Labor, 200 Constitution Avenue, N.W., Room S-5205, Washington, DC 20210. Telephone (202) 693-4900 (this is not a toll free number).

SUPPLEMENTARY INFORMATION: Please refer to the notice published in the Federal Register on December 15, 1994 (59 FR 64713) for supplementary information.

Signed at Washington, DC on April 1, 2004.
Lewis Jaresh, Acting Director,
U.S. National Administrative Officer.

[FR Doc. 04-7742 Filed 4-05-04; 8:45 am]

BILLING CODE 4510-28-M